COMMISSION ON CIVIL RIGHTS

Agenda and Notice of Public Meeting of the Massachusetts State Advisory Committee

Notice is hereby given, pursuant to the provisions of the rules and regulations of the U.S. Commission on Civil Rights and the Federal Advisory Committee Act, that briefing and planning meetings of the Massachusetts State Advisory Committee will convene on September 23, 2010, at 10 a.m. in the Council Room at City Hall, 536 Dwight Street, Holyoke, MA 01040. The purpose of the briefing meeting is for the Advisory Committee to continue its work on English Language Learners. The purpose of the planning meeting is to discuss future activities of the Committee.

Members of the public are entitled to submit written comments; the comments must be received in the regional office by October 23, 2010. Written comments may be mailed to the Eastern Regional Office, U.S. Commission on Civil Rights, 624 Ninth Street, NW., Suite 740, Washington, DC 20425. They may be faxed to 202-376-7748, or e-mailed to ero@usccr.gov. Persons who desire additional information may contact the Eastern Regional Office at 202-376-7533.

Hearing-impaired persons who will attend the meetings and require the services of a sign language interpreter should contact the Eastern Regional Office at least ten (10) working days before the scheduled date of the meeting.

Records generated from this meeting may be inspected and reproduced at the Eastern Regional Office, as they become available, both before and after the meeting. Persons interested in the work of this advisory committee are directed to the Commission's Web site, http://www.usccr.gov, or may contact the Eastern Regional Office at the above e-mail or street address.

The meeting will be conducted pursuant to the rules and regulations of the Commission and FACA.

Dated in Washington, DC, on September 1, 2010.
Peter Minarik,
Acting Chief, Regional Programs Coordination Unit.

[FR Doc. 2010-22149 Filed 9-3-10; 8:45 am]

BILLING CODE 6335-01-P